DEPARTMENT OF THE INTERIOR

Fish and Wildlife Service

[FWS-R6-R-2016-N221]; [FXRS12610600000-178-FF06R00000]

Notice of Intent To Prepare a Comprehensive Conservation Plan for the National Bison Range, Moiese, Montana

AGENCY: Fish and Wildlife Service, Interior.

ACTION: Notice of intent; request for comments.

SUMMARY: We, the U.S. Fish and Wildlife Service (Service), intend to gather information necessary to prepare a draft Comprehensive Conservation Plan (CCP) for the National Bison Range (NBR), a unit of the National Wildlife Refuge System. We are furnishing this notice in compliance with Service Refuge Planning policy to advise other agencies and the public of our intentions, and to obtain suggestions and information on the scope of issues to be considered in the planning process. Participation in the planning process will be encouraged and facilitated by various means, including news releases and public meetings. Notification of all such meetings will be announced in the local press and on the NBR Web site.

DATES: To ensure consideration, written comments must be received or postmarked on or before February 17, 2017.

ADDRESSES: If you wish to comment on the scope of the CCP/EIS, you may submit your comments by the following method: You may mail or hand-deliver comments to Toni Griffin, Refuge Planner, NBR CCP, 134 Union Boulevard, Lakewood, CO 80228.

FOR FURTHER INFORMATION CONTACT: Toni Griffin, Refuge Planner, NBR CCP, 134 Union Boulevard, Lakewood, CO 80228, or by telephone (303) 236-4378.

SUPPLEMENTARY INFORMATION:

Introduction

With this notice, we initiate our process for developing a CCP for the National Bison Range, with headquarters in Moiese, MT. The notice complies with our CCP policy to (1) advise other Federal and State agencies, Tribes, and the public of our intention to conduct planning on this refuge complex and (2) to obtain suggestions and information on the scope of additional issues to consider during development of the CCP. Through the CCP, the Service intends to evaluate both how NBR is managed and who manages it.

Background

The CCP Process

The National Wildlife Refuge System Administration Act of 1966, (Administration Act), as amended by the National Wildlife Refuge System Improvement Act of 1997 (16 U.S.C. 668dd-668ee), requires us to develop a CCP for each national wildlife refuge. The purpose of a CCP is to provide refuge managers with a 15-year strategy for achieving refuge purposes and contributing toward the mission of the National Wildlife Refuge System (NWRS), consistent with sound principles of fish and wildlife management, conservation, legal mandates, and Service policies. In addition to outlining broad management direction on conserving wildlife and their habitats, CCPs identify wildlife-dependent recreational opportunities available to the public, including opportunities for hunting, fishing, wildlife observation and photography, and environmental education and interpretation. We will review and update the CCP at least every 15 years in accordance with the Administration Act.

Each unit of the NWRS was established for specific purposes. We use these purposes as the foundation for developing and prioritizing the management goals and objectives for each refuge within the NWRS mission, and to determine how the public can use each refuge. The planning process is a way for us and the public to evaluate management goals and objectives that will ensure the best possible approach to wildlife, plant, and habitat conservation, while providing for wildlife-dependent recreation opportunities that are compatible with each refuge's establishing purposes and the mission of the NWRS.

We will conduct environmental review pursuant to the provisions of the National Environmental Policy Act of 1969 (42 U.S.C 4321 et seq.), by preparing an environmental impact statement (EIS). The Service intends to invite the Confederated Salish and Kootenai Tribes (CSKT) to participate as a cooperating agency as provided by 40 CFR 1508.5.

The Service will prepare a CCP and EIS which will describe management of the NBR over the next 15 years. To facilitate sound planning and environmental assessment, the Service intends to gather information necessary for the preparation of the CCP/EIS and obtain suggestions and information from other agencies and the public on the scope of issues to be addressed in the CCP/EIS. The Service will separately consider CCPs for Pablo, Ninepipe, and Lost Trail National Wildlife Refuges, and the Northwest Montana Lake County Wetland Management District and the waterfowl production areas therein, which are also part of the National Bison Range Complex. The Service will publish a notice of intent to prepare these CCPs at a later date.

The National Bison Range

In 1855, the United States entered into the Hell Gate Treaty with the Salish and Kootenai Tribes of Western Montana to establish the Flathead Indian Reservation. Just over 50 years later, on May 23, 1908, Congress enacted legislation that used its power of eminent domain to establish the refuge. The overall mission of the NBR is to maintain a representative herd of bison, under reasonably natural conditions, to ensure the preservation of the species for continued public enjoyment. The NBR is 18,800 acres and supports between 350 and 500 bison. The National Bison Range lies entirely within the boundary of the Flathead Indian Reservation of the Confederated Salish and Kootenai Tribes. Members of the CSKT have a cultural, historical, or geographic connection to the land and resources of the Range. There are significant cultural sites located on the Range and the land was formerly owned in trust for the CSKT. The bison at the range today are descendants of bison owned and preserved by CSKT members over a century ago.

Additional Information

The draft CCP/EIS for NBR will include detailed information about the planning process, refuge, issues, and desired resource conditions. Based on determination of desired conditions, regardless of which management option is selected, the final CCP/EIS will outline resource management activities and visitor recreational activities. To facilitate sound judgment of environmental impacts, the Service is gathering information necessary for the preparation of a CCP/EIS. Based on public input over the years, the Service believes that the range of management alternatives should include, at a minimum:

• Alternative A (Current Management): This alternative represents continuing current management and serves as a baseline for comparing the other alternatives. Under this alternative, we would continue our current habitat and visitor services management activities on existing refuge lands. The Service would continue to be responsible for the overall administration of the NBR and the day-to-day on-site activities. The Service would be responsible for implementation of the NBR CCP.

• Alternative B (Preferred Management Option): In this alternative, the Service intends to evaluate the preferred management option of a Congressional transfer of lands comprising of the NBR unit of the National Wildlife Refuge System to the CSKT of the Flathead Reservation, to be held in trust by the Secretary of the Interior for the benefit of the CSKT. In addition to the management of the herd of bison, the CSKT will conserve the natural resources and provide for public visitation and educational opportunities on such lands. Resources would be managed to perpetuate and protect the natural environment and to preserve cultural and historic resources and values. The alternative returns to the tribe control of their traditional lands and cultural resources.

• Alternative C: The Service would execute and carry out a draft negotiated Annual Funding Agreement (AFA) per the Tribal Self Governance Act, wherein the CSKT would be responsible for implementing the provisions of the AFA.

Public Availability of Comments

Before including your address, phone number, email address, or other personal identifying information in your comment, you should be aware that your entire comment—including your personal identifying information—may be made publicly available at any time. While you can ask us in your comment to withhold your personal identifying information from public review, we cannot guarantee that we will be able to do so.

Dated: December 20, 2016.
Noreen Walsh,
Regional Director, U.S. Fish and Wildlife Service, Denver, Colorado.

[FR Doc. 2017-00808 Filed 1-17-17; 8:45 am]

BILLING CODE 4333-15-P